DEPARTMENT OF THE INTERIOR

Bureau of Indian Affairs

[167 A2100DD/AAKC001030/A0A501010.999900]

Land Acquisitions; Cloverdale Rancheria of Pomo Indians of California

AGENCY: Bureau of Indian Affairs, Interior.

ACTION: Notice of final agency determination.

SUMMARY: The Assistant Secretary—Indian Affairs made a final agency determination to acquire approximately 61.83 acres, more or less, of land in trust for the Cloverdale Rancheria of Pomo Indians, California, for gaming and other purposes on April 29, 2016.

FOR FURTHER INFORMATION CONTACT: Ms. Paula L. Hart, Director, Office of Indian Gaming, Bureau of Indian Affairs, MS-3657 MIB, 1849 C Street NW., Washington, DC 20240; telephone (202) 219-4066.

SUPPLEMENTARY INFORMATION: This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

On April 29, 2016, the Assistant Secretary—Indian Affairs issued a decision to accept approximately 61.83 acres, more or less, of land into trust for the Cloverdale Rancheria of Pomo Indians of California (Tribe) under the authority of the Indian Reorganization Act of 1934, 25 U.S.C. 465. The Assistant Secretary—Indian Affairs determined that the Tribe's request also meets the requirements of the Indian Gaming Regulatory Act's “restored lands” exception, 25 U.S.C. 2719(b)(1)(B)(iii), to the general prohibition contained in 25 U.S.C. 2719(a) on gaming on lands acquired in trust after October 17, 1988.

The Assistant Secretary—Indian Affairs, on behalf of the Secretary of the Interior, will immediately acquire title in the name of the United States of America in trust for the Cloverdale Rancheria of Pomo Indians, California.

Legal Description

The 61.83 acres, more or less, are located in the County of Sonoma, State of California, and are described as follows:

APN: 116-310-039-000, 116-310-035-000 and 116-310-040-000

Parcel One

Commencing at a point in the center of the main public road leading from Cloverdale to Healdsburg, at the southwesterly corner of the land of Allegrini, and which said point of beginning is the northwesterly corner of the land described in that certain deed dated February 16, 1916 executed by Mary M. Markell to Fred J. Daniels and recorded February 24, 1917, in liber 350 of deeds, at page 101, Sonoma County records, reference to which deed is hereby expressly made; running thence north 47°28′ East, along the southerly boundary line of the land of said Allegrini a distance of 18.03 chains to the southeast corner of said Allegrini property being the point of beginning of the property hereby conveyed; thence continuing north 47°28′ East along the southerly line of the land of Lile crossing the right of way of the Northwestern Pacific Railway Company, a distance of 35.74 chains to a point on the gravel bar on the Russian River and being the northeasterly corner of the land so conveyed as aforesaid by said Mary M. Markell to Fred J. Daniels; thence south 36°36′ East, on said gravel bar 9.78 chains; thence south 47°28′ West, being parallel with the northerly line of said lands conveyed by said Mary M. Markell to Fred J. Daniels a distance of 35.61 chains; thence North 37°19′ West, a distance 9.77 chains to the place of beginning.

Excepting therefrom 4.50 acres as conveyed to the city of Cloverdale by deed recorded July 18, 1940 in book 505 of official records, at page 358, Serial No. B-21341.

Also excepting therefrom that portion conveyed to the State of California by deed recorded November 7, 1974, in book 2910 of official records, at page 437, Instrument No. P-28163, Sonoma County Records.

Also excepting therefrom that portion of the above described property conveyed in deed recorded June 18, 1973, in book 2773 of official records, at page 384, Instrument No. N-42644, Sonoma County Records.

Also saving and excepting from the above described parcel of land any portion lying northeasterly of the southwesterly line of the Northwestern Pacific Railroad.

Parcel Two

Beginning at an iron pipe 2-inches in diameter, 4 feet long, standing on the east side of the railroad about one mile south of the town of Cloverdale, Sonoma County, State of California, on the dividing line between the lands of Markell and Lile ranches, from which a white oak tree 10 inches in diameter bears South 58°30′ East 85 links distant marked D.L.J.S.O.bt.; thence North 47°28′ East 13.12 chains; thence North 30°30′ West 2.40 chains; thence North 3°30′ East 6.10 chains; thence South 47°20′ West 39.90 chains to the line of the Aligrini ranch; thence South 37°10′ East 6.60 chains to the line of Markell ranch; thence North 47°28′ East 22.45 chains to the place of beginning, the whole distance of the east line is 36.12 chains.

Magnetic variation of needle north 18° east.

Excepting therefrom any portion of the above described parcel of land lying northeasterly of the southwesterly line of the Northwestern Pacific Railroad.

Also excepting therefrom all that portion lying westerly of the easterly line of that portion described in the deed to the State of California recorded on August 13, 1993, Instrument No. 1993 0101800, Sonoma County Records.

Parcel Three

Intentionally Deleted.

Parcel Four

Intentionally Deleted.

Parcel Five

Beginning at a point on the east side of the highway leading from Cloverdale to Healdsburg, at the junction of dry creek road, about one mile south of the town of Cloverdale, marked by an iron pipe, one inch in diameter, four feet long, set in the ground, from which Furber Peak bears South 60°15′ West, Geyser Peak bears South 78°30′ East; thence South 20°30′ West, 58 links to an iron pipe, one inch in diameter, four feet long, set in the ground with six inches above the surface, at the edge of a telegraph pole, and which is the northwest corner of the Allegrini ranch; thence North 55°45′ East, along the line of said Allegrini ranch 11.33 chains; thence North 59° East, 1.75 chains to the west bank of a creek; thence North 37°30′ East, 52 links to the east bank of said creek; thence North 60°15′ East, 3.60 chains to the northeast corner of said Allegrini ranch; thence South 37°10′ East, 9.90 chains along the easterly line of said Allegrini ranch to the northwesterly corner of lands now owned by Joseph A. Lile; thence North 47°20′ East, 39.90 chains (crossing the Northwestern Pacific Railroad right of way and Russian River) to the northeast corner of said lands of Joseph A. Lile; thence North 3°30′ East, up the gravel bar 6.75 chains (to the northeast corner of the tract herein described); thence South 57°30′ West, 5.66 chains to the west bank of Russian River; thence on the last named course South 57°30′ West 16.87 chains; thence South 61°45′ West, up the creek 5.75 chains to the east end to the railroad concrete bridge; thence South 66°45′ West, 1.55 chains to the west end of said bridge; thence meandering up the creek as follows: South 48°15′ West, 1. chain; thence South 3°15′ East, 1.03 chains; thence South 89° West, 1.52 chains; thence North 55° West, 79 links; thence South 78°30′ West, 1.38 chains; thence South 25°30′ east, 81 links; thence South 25°30′ West, 1.10 chains; thence South 81°30′ West, 1.90 chains; thence South 41°50′ West, 1.15 chains; thence South 51° East 1.34 chains; thence South 22° East, 1.62 chains; thence South 61°15′ West, 1.72 chains; thence North 65° West, 2 chains; thence South 43° West, 74 links; thence South 2° West, 60 links; thence South 62° West 1.50 chains; thence South 23°15′ East, 69 links; thence South 78° West, 84 links; thence South 55° West, 2.11 chains; thence South 29°30′ West, 83 links; thence South 56°45′ West, 83 links; thence South 88° West, 71 links; thence South 3°30′ West, 62 links; thence South 54° West, 12.60 chains to the place of beginning. being the northerly portion of the lands and premises and described in the deed dated March 30, 1909, made by George F. Lile to said Sarah C. Lile, and recorded August 11, 1920, in book 390 of deeds, page 140, Sonoma County Records.

Excepting that parcel of land conveyed by the San Francisco Bank, a corporation, to Albert E. Ottoboni and Mary A. Ottoboni, his wife, by deed dated October 14, 1933, and recorded October 31, 1933, in book 348 of official records, page 407, under recorder's Serial No. A-42492, Sonoma county records.

Also excepting therefrom that portion contained in the decree quieting title in favor of Louis Puecinelli, dated February 5, 1926, and recorded June 29, 1943, in book 582 of official records, page 243, under recorder's Serial No. B-62145, Sonoma County Records.

Also excepting therefrom that portion conveyed by Bernard A. Lile, also known as B.A. Lile and Charlette E. Lile, his wife to Herbert Becklund and Eleanor Becklund, his wife, be deed dated October 9, 1947, and recorded October 27, 1947, recorder's Serial No. C-54139, book 748, page 340 Sonoma County Records.

Also excepting any portion of the above described parcel of land lying northeasterly of the southwesterly line of the Northwestern Pacific Railroad.

Also excepting therefrom all that portion which lies westerly of the easterly line of parcel 1 as described in the deed to the state of California recorded June 9, 1993 under Instrument No. 1993 0071125, Sonoma County Records.

Parcel Six

An easement for a private at-grade roadway used exclusively for access, and ingress and egress upon the terms and provisions as set forth and described in that certain “easement agreement (private at-grade crossing of railroad line)” executed by and between North Coast Railroad authority, a legislatively created State Agency and Amonos, LLC, a Delaware limited liability company and Sirrah, LLC, a Delaware limited liability company recorded October 16, 2012 as Instrument No. 2012-102659, Sonoma County Records.

Parcel Seven

An easement for a below grade utility crossing used for sewer, potable water, treated water for irrigation, natural gas, power, electricity and all types of communication cables and lines upon the terms and provisions as set forth and described in that certain “easement agreement (below-grade utility crossing of railroad line)” executed by and between north coast railroad authority, a legislatively created state agency and Amonos, LLC, a Delaware limited liability company and Sirrah, LLC, a Delaware limited liability company recorded October 16, 2012 as Instrument No. 2012-102658, Sonoma County Records.

APN: 116-310-005-000 (Affects Parcel Two) and 116-310-079-000 (Affects Parcel One)

Parcel One: APN: 116-310-079-000 (Affects Parcel One)

Being a portion of the Musalacon rancho and a portion of the lands conveyed to Joseph A. Lile by deed recorded May 11, 1929, in book 226 of official records, page 464, Serial No. 92289, Sonoma County Records, and by deed recorded September 17, 1919, in book 375 of deeds, page 20, Sonoma County Records, and more particularly described as follows: Commencing at a point on the west side of a concrete bridge on a railroad over Porterfield Creek between the lands of the above-mentioned Joseph A. Lile and the lands of Frank Chiocciora as conveyed to him by deed dated March 01, 1948, and recorded April 30, 1948, under Serial No. C-66364, Sonoma County Records, thence crossing said railroad North 66°45′ East 1.55 chains to the east side of said bridge and railroad and the point of beginning of the lands to the herein described; thence, from said point of beginning along the line as established by that boundary line agreement between Kate E. Leist and George E. Lile recorded July 09, 1917, in book 35 of maps, page 6, Sonoma County Records, North 61°45′ East, 5.75 chains to point; thence continuing along said line north 57°30′ East, 22.62 chains to a point, said point being the most northerly corner of the Lile ranch as shown in book 35 of maps, page 6; thence from said point and along the above mentioned boundary line agreement between George E. Lile and Melville and Ingram South 3°30′ West, a distance of 6.75 chains to the most northerly corner of the lands conveyed to Joseph A. Lile by deed dated august 13, 1919, and recorded September 17, 1919, in book 375 of deeds, page 20, Sonoma County Records; thence continuing along said boundary line agreement South 3°30′ West, a distance of 6.10 chains to a point; thence South 36°30′ East a distance of 2.40 chains to the northerly corner of the former Markell ranch now owned by Clifford Lile and wife, by deed recorded December 07, 1943, under Serial No. B-70019, Sonoma County Records; thence along the line between Joseph A. Lile and Clifford Lile South 47°28′ West a distance of 13.12 chains, more or less, to the easterly line of the railroad; thence northerly along the easterly line of said railroad to the point of beginning.

Excepting therefrom all that portion granted from the San Francisco Bank, a corporation to Albert E. Ottoboni and Mary A. Ottoboni, by deed dated October 14, 1933, and recorded October 31, 1933, in book 348 of official records, page 407, Serial No. A-42492, Sonoma County Records.

Excepting therefrom all that portion granted from Joseph A. Lile and Belle I. Lile to Carvel B. Case, by deed dated April 07, 1954, and recorded April 23, 1954, in book 1268 of official records, page 310, Serial No. E-19321, Sonoma County Records.

Excepting therefrom that portion conveyed to the State of California by deeds recorded June 11, 1992, as Document Nos. 92-69810 and 92-69811, Sonoma County Records.

Excepting therefrom that portion condemned to the city of Cloverdale by final order in condemnation-action in eminent domain, recorded December 13, 2010, as Instrument No. 2010113034 of official records, described as follows:

Beginning at a point on the northerly line of the lands of Sirrah, LLC, a Delaware limited liability company, as recorded under Document Number 2008-040296, Sonoma County Records, from which point an old 1 inch iron pipe with nail bears S. 58°52′56″ W., 128.35 feet; thence from said point of beginning and continuing easterly along said northerly line, N. 58°52′56″ E., 1135.26 feet to the northeasterly corner of said lands; thence southerly and along the easterly line of said lands S. 05°01′20″ W., 499.52 feet, from which a ½ inch iron pipe with no tag bears S. 05°01′20″ W., 312.39 feet, said ½ inch iron pipe monument is accepted as the one shown on that certain “record of survey” as filed in book 634 of maps, page 42, Sonoma County Records; thence leaving said easterly line, and along a line that is approximately 1 foot southerly and parallel to an existing chain link fence, S. 84°31′00″ W., 932.44 feet, to the point of beginning.

Parcel Two: APN: 116-310-005-000 (Affects Parcel Two)

Being a portion of the Musalacon rancho and a portion of the lands conveyed to Clifford I. Lile and wife by deed recorded December 07, 1943, in book 600 of official records, page 8, recorder's Serial No. B-70019, Sonoma County Records, said portion being described as follows:

Beginning at a 2″ iron pipe monument marking the point of intersection of the northeasterly line of the right of way of the Northwestern Pacific Railway Company with the division line between said lands conveyed to Clifford Lile and wife and the lands of Joseph A. Lile and wife, and from which point a white oak tree 10″ in diameter and marked “d.l.j.s.o.bt”, bears South 58°30′ East a distance of 85 links; thence from said point of beginning north 47°28′ East and along said division line 13.12 chains, more or less, to the common easterly corner of said lands of Clifford Lile and wife and Joseph A. Lile and wife; thence South 36°30′ East and along the easterly line of said lands conveyed to Clifford Lile and wife, 15.40 chains, more or less, to the southeasterly corner thereof; thence South 47°40′ West and along the southerly line of said lands 5.31 chains, more or less, to the most easterly corner of the 27.50 acre tract conveyed to the United States of America by deed recorded March 29, 1921 in book 298 of deeds, page 280, Sonoma County Records; thence north 59°15′ West and along the northeasterly line of said 27.50 acre tract 6.07- ½ chains, more or less, to the southeasterly line of said lands conveyed to Clifford Lile and wife; thence South 47°28′ West and along the southeasterly line of said lands of Lile, 3 chains, more or less, to the northeasterly line of the right of way for the Northwestern Pacific Railway Company; thence north 58°06′ 15″ West and along the northeasterly line of said right of way a distance of 10 chains, more or less, to the point of beginning.

Excepting from the above described parcel of land all that portion granted by Clifford I. Lile and wife to Carvel B. Case, by deed dated April 03, 1954, and recorded April 23, 1954, in book 1268 of official records, page 322, Serial No. E-19324, Sonoma County Records.

Parcel Three

A right of way 20 feet in width, for general road and utility purposes as described in deed to Clifford I. Lile and Mary A. Lile, his wife, and Isabella L. Rickard and Lester I. Rickard, her husband, recorded December 11, 1970, in book 2501 of official records, at page 692, Serial No. L-90137, Sonoma County Records.

Parcel Four

An easement for access to the Russian River in, over, along and across a 100 foot strip of land lying along and adjacent to the entire northeasterly boundary of parcel two hereinabove described as reserved by Clifford I. Lile and wife in the deed to Carvel B. Case dated April 03, 1954, and recorded April 23, 1954, in book 1268 of official records, page 322, Serial No. E-19324, Sonoma County Records.

Parcel Five

Non exclusive easements for access by pedestrians, vehicles and equipment as described in the grant of easement from Spight Properties II, LLC, a California limited liability company to Silverado Premium Properties, LLC, a Delaware limited liability company recorded March 21, 2003, as Document Number 2003-054446, Sonoma County Records.

Parcel Six

A non exclusive easement for ingress, egress, and roadway purposes to and from the public road known as Asti Road as described in the grant of easement from the city of Cloverdale to Sirrah, LLC, a Delaware limited liability company recorded November 5, 2010, as Instrument No. 2010096990, Sonoma County Records.

Parcel Seven

An easement for a private at-grade roadway used exclusively for access, and ingress and egress upon the terms and provisions as set forth and described in that certain “easement agreement (private at-grade crossing of railroad line)” executed by and between North Coast Railroad Authority, a legislatively created State Agency and Amonos, LLC, a Delaware limited liability company and Sirrah, LLC, a Delaware limited liability company recorded October 16, 2012, as Instrument No. 20120102659, Sonoma County Records.

Parcel Eight

An easement for a below grade utility crossing used for sewer, potable water, treated water for irrigation, natural gas, power, electricity and all types of communication cables and lines upon the terms and provisions as set forth and described in that certain “easement agreement (below-grade utility crossing of railroad line)” executed by and between north coast railroad authority, a legislatively created State Agency and Amonos, LLC, a Delaware limited liability company and Sirrah, LLC, a Delaware limited liability company recorded October 16, 2012, as Instrument No. 20120102658, Sonoma County Records.

Dated: May 12, 2016.
Lawrence S. Roberts,
Acting Assistant Secretary—Indian Affairs.

[FR Doc. 2016-11756 Filed 5-18-16; 8:45 am]

BILLING CODE 4337-15-P